DEPARTMENT OF COMMERCE

National Oceanic and Atmospheric Administration

Agency Information Collection Activities; Submission to the Office of Management and Budget (OMB) for Review and Approval; Comment Request; Expanding Industry-Collaborative Research Surveys in Untrawlable Habitats Along the Pacific Coast

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 6, 2024.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to John Harms, Research Fish Biologist, Northwest Fisheries Science Center, 2725 Montlake Blvd. E, Seattle, WA 98112, (206) 860-3414, John.Harms@noaa.gov or Dr. Melissa Monk, Research Mathematical Statistician, Southwest Fisheries Science Center, 110 McAllister Way, Santa Cruz, CA 95060, (831) 420-3950, Melissa.Monk@noaa.gov.

SUPPLEMENTARY INFORMATION:

I. Abstract

This request is to initiate a collection of information from members of the recreational and commercial fishing communities along the Pacific Coast to support expansion of fishery-independent groundfish research surveys conducted by or in coordination with the National Marine Fisheries Service's (NMFS) Northwest Fisheries Science Center (NWFSC) and Southwest Fisheries Science Center (SWFSC). The two centers are working jointly on this collection. Statutory and regulatory authority for the conduct of these surveys and their expansion emanate from the Magnuson-Stevens Act (MSA) and NMFS National Standard (NS) 2. MSA Sec. 402(e) and NS 2 (CFR Sec. 600.315) authorize resource assessments including research surveys as a means of generating the best available scientific information for assessing and managing fish stocks, including the groundfish stocks along the Pacific Coast. MSA Sec. 404(b)(3) authorizes NMFS to conduct these surveys aboard industry vessels.

This collection will generate information essential for the expansion of existing industry-collaborative groundfish research surveys in untrawlable habitats along the Pacific Coast. Survey expansion will close spatial gaps in existing survey coverage and provide information for the monitoring, assessment, and management of ecologically and economically important groundfish stocks including quillback rockfish (Sebastes maliger), copper rockfish (S. caurinus), yelloweye rockfish (S. ruberrimus), lingcod (Ophiodon elongatus), and many others. Due to the paucity of data for some of these species and the resulting uncertainty surrounding the abundance and trajectory of these stocks within stock assessments, large areas of the coast have been closed to most fishing as a precautionary measure which has been economically damaging to a considerable portion of the recreational and commercial fishing communities. Partnering with these communities which include some of the nation's most knowledgeable individuals about groundfish biology and behavior will support NMFS' efforts to expand surveys, close data gaps, reduce scientific uncertainty, and more effectively manage the groundfish stocks along the Pacific Coast.

NMFS will generate a spreadsheet template that will be distributed on a voluntarily basis to members of the recreational and fishing communities along the Pacific Coast to solicit information about the most appropriate sampling locations to include in potential survey expansion as well as the role habitat, gear type, and vessel platform may play when targeting different species. Specifically, NMFS requests GPS coordinates and depths for potential survey sampling locations as well as the habitat type and target species associated with a particular location, and the most appropriate gear type for each location. Primary respondents will be identified by collaborating with existing industry representatives and liaisons along the coast to ensure broad spatial coverage, however, NMFS plans to place no restrictions on broader, voluntary distributions by primary respondents to other knowledgeable members of the fishing community. In conjunction with the spreadsheet template, NMFS plans to convene a series of small workshops in port towns along the Pacific Coast with industry members to help raise awareness about the survey expansion effort.

II. Method of Collection

This collection will be primarily electronic in the form of a spreadsheet that will be distributed via email to voluntary recipients. Email will also be the preferred means of response. We will also provide paper copies for distribution at a series of focused discussions in port towns for individuals who wish to provide information via hard copy and submit via fax, U.S. mail, or in person.

III. Data

OMB Control Number: 0648-XXXX.

Form Number(s): None.

Type of Review: Regular submission, new information collection.

Affected Public: Primary respondents are individuals affiliated with the recreational and commercial fishing communities along the U.S. Pacific Coast.

Estimated Number of Respondents: 200.

Estimated Time per Response: Response time will vary based upon the number of fishing locations an individual wishes to provide, but we estimate that on average, a response will require approximately 20 minutes to complete.

Estimated Total Annual Burden Hours: The estimated total annual burden in hours is 200 responses × 20 minutes = 4,000 minutes or 66.7 hours.

Estimated Total Annual Cost to Public: We anticipate no direct costs to the public unless an individual wishes to return a response via U.S. mail, in which case the cost per individual will be the cost of a postage stamp ($0.68). Assuming up to 20 responses are submitted via U.S. mail, the total cost to the public will be $13.60.

Respondent's Obligation: Voluntary.

Legal Authority: Magnuson-Stevens Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-04630 Filed 3-4-24; 8:45 am]

BILLING CODE 3510-22-P